DEPARTMENT OF DEFENSE

Department of the Army; Corps of Engineers

Notice of Intent To Grant Partially Exclusive License of U.S. Patent Application No. 11/82,432 Entitled “A Method and System for Treating Metal-Containing Fluid Emissions” and U.S. Patent Application No. 10/931,232 “Perlite Sorbents for Vapor Phase Metals and Metals Compounds”

AGENCY: Department of the Army, U.S. Army Corps of Engineers, DOD.

ACTION: Notice.

SUMMARY: In accordance with 37 CFR 404.7(a)(1)(i), announcement is made of a prospective partially exclusive license for specific applications of small ammunition destruction, soil remediation from contaminants, and Municipal Solid Waste (MSW) recycling (converting waste products into reusable materials) in worldwide markets.

DATES: Written objections must be filed not later than 15 days following publication of this announcement.

ADDRESSES: United States Army Corps of Engineers Research and Development Center, Office of Technology Transfer and Outreach, ATTN: CEERD-OT (Ms. Bea Shahin), 2902 Newmark Drive, Champaign, IL 61822-1076.

FOR FURTHER INFORMATION CONTACT: Ms. Bea Shahin, (217) 373-7234, Fax (217) 373-7210; Internet Bea.S.Shahin@usace.army.mil.

SUPPLEMENTARY INFORMATION: Emissions from military deactivation furnaces contain toxic metal vapors and particulates at high temperatures reaching 1200 °F. Based on the speciation studies conducted by U.S. Army Engineer Research and Development Center, Construction Engineering Research Laboratory (ERDC-CERL) on emissions from deactivation furnaces, lead, cadmium, antimony and other metals released are in two phases as solid particulates and vapor phase. It is also observed that nearly 97% of the metals are in particulate form. Thus if we can capture the solid particulates, the metals emissions would be significantly reduced. However, it is necessary to capture the vapor phase metal compounds also to reduce the total emissions well below the National Emissions Standards for Hazardous Air Pollutants (NESHAP) standards. Thus ERDC-CERL has developed an emissions control system, Integrated Metal Emissions Control System (IMECS™) to capture the particulates and the vapor phase metal compounds. The two patents involved here describe capturing particulate emissions as well as vapor phase toxic/hazardous compounds from combustion processes. The technology involves Steel Screen Particulate (SSP) Filter System that is capable of capturing the particulate material (including PM2.5) followed by a Perlite Based Sorbent (PBS) fixed bed system. The IMECS™ can be operated at high temperatures and can significantly remove large quantities of lead and other metal compounds. The IMECS™ is compact and can be sized conveniently and integrated with mobile and stationary incinerator systems alike. Emissions of volatile and semi-volatile metal particulates as well as select organics may be captured from deactivation furnaces, solid waste incinerators, can be cost effectively controlled with the IMECS.™

Brenda S. Bowen,
Army Federal Register Liaison Officer.

[FR Doc. E8-1308 Filed 1-24-08; 8:45 am]

BILLING CODE 3710-92-P